FEDERAL COMMUNICATIONS COMMISSION

47 CFR Parts 1, 51, 52, 53, 63, and 64

[FCC 96-79; FCC 96-489; FCC 99-227; FCC 00-116; FCC 01-362; FCC 04-251 and FCC 10-85]

Extension of Lines, Interconnection, Numbering, Payphone Compensation, Pole Attachment Complaint Procedures, Obligations of Local Exchange Carriers, Special Provisions Concerning Bell Operating Companies, and Area Code Relief

AGENCY: Federal Communications Commission.

ACTION: Final rule; announcement of effective date.

SUMMARY: This document announces the approval of the Office of Management and Budget (OMB) for information collection requirements in the sections outlined in the DATES section.

DATES: The following information collection requirements have been approved by OMB and are effective August 26, 2013:

• 47 CFR 1.1404(g), (h) and the third sentence of paragraph (j)—63 FR 12025, May 17, 2000

• 47 CFR 51.217(c)(3)—64 FR 51911, September 27, 1999

• 47 CFR 52.19(c)(3)(i), (c)(4)—67 FR 6431, February 12, 2002

• 47 CFR 52.36—75 FR 35305, June 22, 2010

• 47 CFR 53.203(b) and (e)—62 FR 2967, January 21, 1997

• 47 CFR 63.62(a)—61 FR 15733, April 9, 1996

• 47 CFR 64.1310(g)—70 FR 720, January 5, 2005

FOR FURTHER INFORMATION CONTACT: Michele Levy Berlove, Competition Policy Division, Wireline Competition Bureau at Michele.Berlove@fcc.gov.

SUPPLEMENTARY INFORMATION: On January 24, 2001, OMB approved the information collection requirements contained in 47 CFR 1.1404(g), (h) and (j) as a revision to OMB Control Number 3060-0392.

On October 29, 1999, OMB approved the information collection requirements contained in 47 CFR 51.217(c)(3) as a revision to OMB Control Number 3060-0741.

On March 12, 2002, OMB approved the information collection requirements contained in 47 CFR 52.19(c)(3)(i) and (4) as a new collection, OMB Control Number 3060-1005.

On July 29, 2010, OMB approved the information collection requirements contained in 47 CFR 52.36 as a revision to OMB Control Number 3060-0742.

On March 19, 1997, OMB approved the information collection requirements contained in 47 CFR 53.203(b) and (e) as a new collection, OMB Control Number 3060-0734.

On December 13, 1996, OMB approved the information collection requirements contained in 47 CFR 63.62(a) as a revision to OMB Control Number 3060-0149.

On May 25, 2005, OMB approved the information collection requirements contained in 47 CFR 64.1310(g) as a revision to OMB Control Number 3060-1046.

These information collection requirements required OMB approval to become effective. The Commission publishes this document as an announcement of those approvals. If you have any comments on the burden estimates listed below, or how the Commission can improve the collections and reduce any burdens caused thereby, please contact Thomas Butler, Federal Communications Commission, Room 5-C458, 445 12th Street SW., Washington, DC 20554. Please include the OMB Control Numbers, 3060-0392, 3060-0741, 3060-1005, 3060-0742, 3060-0734, 3060-0149, and 3060-1046 in your correspondence. The Commission will also accept your comments via the Internet if you send them to PRA@fcc.gov.

To request materials in accessible formats for people with disabilities (Braille, large print, electronic files, audio format), send an email to fcc504@fcc.gov or call the Consumer & Governmental Affairs Bureau at (202) 418-0530 (voice) (202) 419-0432 (TTY).

Synopsis: As required by the Paperwork Reduction Act of 1995 (44 U.S.C. 3507), the FCC is notifying the public that it received OMB approval for the information collection requirements described above. The OMB Control Numbers are 3060-0392, 3060-0741, 3060-1005, 3060-0742, 3060-0734, 3060-0149, and 3060-1046. The total annual reporting burden for respondents for these collections of information, including the time for gathering and maintaining the collection of information, has been most recently approved to be:

For 3060-0392: 1,772 responses, for a total of 2,629 hours, and $450,000 in annual costs.

For 3060-0741: 573,767 responses, for a total of 575,448 hours, and no annual costs.

For 3060-1005: 32 responses, for a total of 830 hours, and no annual costs.

For 3060-0742: 10,001,890 responses, for a total of 672,516 hours, and $13,423,321 in annual costs.

For 3060-0734: 1,515 responses, for a total of 72,495 hours, and $1,500,000 in annual costs.

For 3060-0149: 60 responses, for a total of 300 hours, and no annual costs.

For 3060-1046: 8,080 responses, for a total of 160,184 hours, and no annual costs.

An agency may not conduct or sponsor a collection of information unless it displays a current valid OMB Control Number. No person shall be subject to any penalty for failing to comply with a collection of information subject to the Paperwork Reduction Act, which does not display a current, valid OMB Control Number. The foregoing notice is required by the Paperwork Reduction Act of 1995, Public Law 104-13, October 1, 1995, and 44 U.S.C. 3507.

Federal Communications Commission.
Gloria J. Miles,
Federal Register Liaison.

[FR Doc. 2013-20675 Filed 8-23-13; 8:45 am]

BILLING CODE 6712-01-P